DEPARTMENT OF ENERGY

Federal Energy Regulatory Commission

Notice of Amendment of License and Soliciting Comments, Motions To Intervene, and Protests

March 26, 2001.

Take notice that the following hydroelectric application has been filed with the Commission and is available for public inspection:

a. Application Type: Amendment to License.

b. Project No.: 18-063.

c. Date Filed: March 15, 2001.

d. Applicant: Idaho Power Company.

e. Name of Project: Twin Falls Project.

f. Location: The Twin Falls Project is on the Snake River in Jerome and Twin Falls Counties, Idaho. The project includes 93 acres of land administered by the Bureau of Land Management.

g. Filed Pursuant to: Federal Power Act, 16 U.S.C. 791(a)-825(r).

h. Applicant Contact: Mr. Nathan F. Gardiner, Idaho Power Company, 1221 West Idaho Street, P.O. Box 70, Boise, ID 83707; (208) 388-2676.

i. FERC Contact: Question about this notice can be answered by John Smith at (202) 219-2460 or e-mail address: john.smith@ferc.fed.us. The Commission cannot accept comments, recommendations, motions to intervene or protest sent by e-mail; these documents must be filed as described below.

j. Deadline for filing comments, terms and conditions, motions to intervene, and protests: 14 days from the issuance date of this notice.

All documents (original and eight copies) should be filed with: David P. Boergers, Secretary, Federal Energy Regulatory Commission, 888 First Street, NE., Washington, DC 20426. Comments, protests, and interventions may be filed electronically via the internet in lieu of paper. See 18 CFR 385.2001(a)(1)(iii) and the instructions on the Commission's web site at http://www.ferc.fed.us/efi/doorbell.htm.

The Commission's Rules of Practice and Procedure require all intervenors filing documents with the Commission to serve a copy of that document on each person whose name appears on the official service list for the project. Further, it an intervenor files comments or documents with the Commission relating to the merits of an issue that may affect the responsibilities of a particular resource agency, they must also serve a copy of the document on that resource agency.

k. Idaho Power Company (Idaho Power) filed an application seeking a 1-year waiver of aesthetics flows over Twin Falls required by license article 410 to help lessen the impacts due to the ongoing power shortage and increases in energy costs. Article 410 reads as follows:

After completion of construction of the new powerhouse, the licensee shall maintain flows that average 300 cubic feet per second (cfs) over Twin Falls from 8 a.m. to 30 minutes after sunset each day, 7 days a week, April 1 through August 31, and 8 a.m. to 30 minutes after sunset every Saturday and Sunday and on all holidays, September 1 through March 31 (peak viewing times). At no time during these peak viewing times shall the flow over Twin Falls fall below 270 cfs or inflow, whichever is less. The average flow of 300 cfs required during peak viewing time may be temporarily modified if required by operating emergencies beyond the control of the licensee or for short periods upon agreement between the licensee, the Bureau of Land Management, the Idaho Department of Parks and Recreation, and the Idaho State Historic Preservation Officer.

Until completion of construction of the new powerhouse the licensee shall maintain flows over the falls that average 300 cfs, or inflows less than 200 cfs, during peak viewing times. Plant flows shall be reduced by 8 a.m. to allow gradual reservoir surcharging to accomplish this bypass flow.

Idaho Power proposes to spill water over Twin Falls if it is needed to meet the state water quality standard for dissolved oxygen as required by license article 404. At the end of 1 year, Idaho Power would again evaluate energy conditions in Idaho and other western states to determine if a longer waiver is necessary.

1. A copy of the application is available for inspection and reproduction at the Commission's Public Reference Room at 888 First Street NE., Room 2A, Washington, DC 20426, or by calling (202) 208-1371. The application may be viewed on the web at http://www.ferc.fed.us/online/rims.htm. Call (202) 208-2222 for assistance. A copy is also available for inspection and reproduction at the address in item (h) above.

m. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “RECOMMENDATIONS FOR TERMS AND CONDITIONS,” “PROTEST,” or “MOTION TO INTERVENE,” as applicable, and the Project Number of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

David P. Boergers,
Secretary.

[FR Doc. 01-7859 Filed 3-29-01; 8:45 am]

BILLING CODE 6717-01-M